DEPARTMENT OF COMMERCE

Foreign-Trade Zones Board

[B-27-2024]

Foreign-Trade Zone (FTZ) 22; Authorization of Production Activity; Gotion Inc; (Lithium Battery Packs and Lithium Battery Systems); Manteno, Illinois

On May 22, 2024, Gotion Inc. submitted a notification of proposed production activity to the FTZ Board for its facility within Subzone 22AF, in Manteno, Illinois.

The notification was processed in accordance with the regulations of the FTZ Board (15 CFR part 400), including notice in the Federal Register inviting public comment (89 FR 46856, May 30, 2024). On September 19, 2024, the applicant was notified of the FTZ Board's decision that no further review of the activity is warranted at this time. The production activity described in the notification was authorized, subject to the FTZ Act and the FTZ Board's regulations, including section 400.14.

Dated: September 19, 2024.
Elizabeth Whiteman,
Executive Secretary.

[FR Doc. 2024-21822 Filed 9-23-24; 8:45 am]

BILLING CODE 3510-DS-P